DEPARTMENT OF HOMELAND SECURITY

U.S. Immigration and Customs Enforcement

[OMB Control Number 1653-0045]

Agency Information Collection Activities; Extension, Without Change, of a Currently Approved Collection: Affidavit in Lieu of Lost Receipt of United States ICE for Collateral Accepted as Security; Correction

AGENCY: U.S. Immigration and Customs Enforcement, Department of Homeland Security.

ACTION: 30-Day notice, correction.

SUMMARY: On April 29, 2019, ICE published in the Federal Register a request for comments on the Affidavit in Lieu of Lost Receipt of the United States ICE for Collateral Accepted as Security that contained an error regarding the burden estimates. The burden estimates provided in this notice correction represent the actual burden estimates.

DATES: Comments are encouraged and will be accepted until June 5, 2019.

ADDRESSES: Interested person are invited to submit written comments and/or suggestions regarding the item(s) contained in this notice, especially regarding the estimated public burden and associated response time, to the Office of Information and Regulatory Affairs, Office of Management and Budget. Comments should be addressed to the OMB Desk Officer for Immigration and Customs Enforcement, Department of Homeland Security, and sent via electronic mail to dhsdeskofficer@omb.eop.gov. All submissions must include the words “Department of Homeland Security” and the OMB Control Number 1653-0045.

CORRECTION

In the Federal Register on April 29, 2019 at 84 FR 18073, the burden estimates were listed as 10 responses at 30 minutes per response with 300 annual burden hours and $87,500 annual cost burden. The actual burden estimates are 3,500 annual responses at 30 minutes per response with 1,750 annual burden hours and $27,930 annual cost burden.

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, Without Change, of a Currently Approved Collection.

(2) Title of the Form/Collection: Affidavit in Lieu of Lost Receipt of United States ICE Collateral Accepted as Security.

(3) Agency form number, if any, and the applicable component of the Department of Homeland Security sponsoring the collection: I-395; U.S. Immigration and Customs Enforcement

(4) Affected public who will be asked or required to respond, as well as a brief abstract: Primary: State, Local, or Tribal Government. Section 404(b) of the Immigration and Nationality Act (8 U.S.C. 1101 note) provides for the reimbursement of States and localities for assistance provided in meeting an immigration emergency. This collection of information allows for State or local governments to request reimbursement.

(5) An estimate of the total number of respondents and the amount of time estimated for an average respondent to respond: 3,500 responses at .50 hours (30 minutes) per response.

(6) An estimate of the total public burden (in hours) associated with the collection: 1,750 annual burden hours.

(7) An estimate of the total public burden (in cost) associated with the collection: The estimated annual cost burden associated with this collection of information is $27,930.

Dated: May 1, 2019.
Scott Elmore,
PRA Clearance Officer, Office of the Chief Information Officer, U.S. Immigration and Customs Enforcement, Department of Homeland Security.

[FR Doc. 2019-09162 Filed 5-3-19; 8:45 am]

BILLING CODE 9111-28-P